DEPARTMENT OF HEALTH AND HUMAN SERVICES

Administration for Children and Families

Proposed Information Collection Activity; Family Level Assessment and State of Home Visiting (FLASH-V) Outreach and Recruitment Study (New Collection)

AGENCY: Office of Planning, Research, and Evaluation; Administration for Children and Families; HHS.

ACTION: Request for public comment.

SUMMARY: The Administration for Children and Families (ACF), Office of Planning, Research, and Evaluation is requesting public comment on new data collection activities to gather information about how Maternal, Infant, and Early Childhood Home Visiting (MIECHV) local implementing agencies (LIAs) recruit families for program participation and work with their community referral partners to recruit families. The project is designed to examine challenges programs experience reaching caseload capacity and how challenges might be overcome.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation (OPRE), 330 C Street SW, Washington, DC 20201, Attn: OPRE Reports Clearance Officer. All requests, emailed or written should be identified by the title of the information collection.

SUPPLEMENTARY INFORMATION:

Description: The ACF Office of Planning, Research, and Evaluation is proposing a new information collection to learn more about how MIECHV-funded LIAs recruit families for home visiting services. Data collection will take place in two phases: (1) Eligibility assessment and preliminary data collection and (2) primary data collection. The first phase, for MIECHV-funded LIAs, includes completion of an eligibility assessment form, providing information about community referral partners, and submitting program outreach and recruitment materials. The second phase includes participation, for LIAs and identified community referral partners, in a 75-minute semi-structured interview. For a subset of LIAs, it also includes submitting management information system (MIS) data. This descriptive work will capture how LIAs and their community referral partners identify families, refer families to home visiting services, and enroll and serve families. The activities and products from this project will help ACF and the Health Resources and Services Administration to identify actionable bottlenecks in the recruitment and enrollment process to allow for the development and testing of strategies to improve the delivery of MIECHV-funded services.

Respondents: MIECHV-funded LIA administrators, program managers, and frontline staff; LIAs participating in the Home Visiting Applied Research Collaborative's (HARC) Practice-Based Research Network; and LIA community referral partners.

Annual Burden Estimates
Instrument | Total/annual number of respondents | Number of responses per respondent | Average burden hours per response | Annual burden hours
LIA Eligibility Assessment Form | 161 | 1 | .25 | 40
LIA Eligibility Assessment Form for MIS Data | 15 | 1 | .25 | 4
Request for LIA Recommendations from HARC State Networks | 25 | 1 | .25 | 6
Request to LIAs for Community Referral Partner Contact Information | 35 | 1 | .25 | 9
Interview Protocol Local Implementing Agency | 40 | 1 | 1.25 | 50
Interview Protocol Community Referral Partner | 150 | 1 | 1.25 | 188
MIS Data Submission | 16 | 1 | 8 | 128

Estimated Total Annual Burden Hours: 425 hours.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Social Security Act Title V § 511 [42 U.S.C. 711]. As extended by the Bipartisan Budget Act of 2018 (Pub. L. 115-123) through FY22.

Mary B. Jones,
ACF/OPRE Certifying Officer.

[FR Doc. 2020-01018 Filed 1-22-20; 8:45 am]

BILLING CODE 4182-74-P